DEPARTMENT OF HEALTH AND HUMAN SERVICES

Centers for Disease Control and Prevention

[60Day-05-05CB]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5983 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Reduce Injury & Musculoskeletal Disorder (MSD) Risk from Human-Machine Interaction—New—National Institute for Occupational Safety and Health (NIOSH), Centers for Disease Control and Prevention (CDC).

Background and Brief Description

The Federal Mine Safety & Health Act of 1977, Section 501, enables CDC/NIOSH to carry out research relevant to the health and safety of workers in the mining industry. The objective of this project is to investigate the hazards in underground mines associated with the work environment and mobile face equipment. Ultimately, this project will show miners how to reduce the likelihood of these hazards through human factors, design considerations and/or engineering interventions. The specific aims of this study are to (1) determine face equipment risk to the operator, (2) define the information cues operators need to perform their job tasks, (3) identify the types of changes operators could make to reduce their exposure from each of the environmental hazards that affect their safety.

Operating large face equipment is one of the most basic yet dangerous elements of underground mining operations. A typical room-and-pillar mining operation involves removal of a 10-ft section of coal and loading it onto haulage machines, backing the cutting equipment (continuous miner) out and re-entering the section to remove and load an additional 10-ft section of coal to produce a 20-ft wide entry. After removing a section of the coal seam, the continuous miner is moved to another location and roof support equipment is moved into the mined section to install roof supports to secure sections of unsupported roof. Every time the work sequence for a new entry is completed, moving (tramming) vehicles to the next work location pose hazards to the operator and their helpers. Tramming face equipment is usually done in restricted workspace with reduced visibility. The restricted mine work environment puts the operators and/or helpers in awkward postures for jobs that require fast reactions to avoid being struck by the moving machine. Restricted visibility due to the nature of underground mine environments and low lighting conditions further complicates the job. If not controlled from the machine cab, a machine operator typically walks in front of or behind their machine using a remote control. Unfortunately during the job, operators have the tendency to step beside their moving machine for a better view, placing them in a dangerous location. The Mine Safety and Health Administration accident data from 1999 to 2003 indicate that the coal industry averages 7,438 incidents per year. Of that total, 18% or an average of 1,312 incidents per year involved mobile face equipment that includes continuous miners, roof support machines, and haulage vehicles for underground mines. A substantial proportion (91%) of the 1,312 incidents reported included accident types that occurred while moving the equipment.

The purpose of this study is to determine which mechanisms cause injuries to operators of mobile face equipment and find new ways to reduce injuries, work-related musculoskeletal disorders, and accidents. Industry participation will help researchers in their study to improve the health and safety of employees in the mining industry, specifically those who operate and maintain mobile face mining equipment. The information for this study will be collected by conducting one-on-one structured interviews with approximately 5 managers and 15 continuous miner operators at each of 10 mines located throughout the major coal producing regions of the U.S. This survey will last less than 1 year. There will be no cost to respondents other than their time.

Estimate of Annualized Burden Hours
Respondents | Number of respondents | Number of responses per respondent | Average burden per response (in hours) | Total burden (in hours)
Mine management (5 persons from 10 mines) | 50 | 1 | 30/60 | 25
Continuous miner operators (15 persons from 10 mines) | 150 | 2 | 45/60 | 225
Total |  |  |  | 250

Dated: May 26, 2005.
Betsey Dunaway,
Acting Reports Clearance Officer, Centers for Disease Control and Prevention.

[FR Doc. 05-10952 Filed 6-1-05; 8:45 am]

BILLING CODE 4163-18-P